ENVIRONMENTAL PROTECTION AGENCY

40 CFR Parts 52 and 81

[EPA-R09-OAR-2006-0583; FRL-8470-9]

Extension of Public Comment Period for Proposed Rule on Approval and Promulgation of Implementation Plans; Designation of Areas for Air Quality Planning Purposes; State of California; PM-10; Affirmation of Determination of Attainment for the San Joaquin Valley Nonattainment Area

AGENCY: Environmental Protection Agency (EPA).

ACTION: Extension of public comment period.

SUMMARY: The EPA is announcing an extension of the public comment period for the proposed rule entitled “Approval and Promulgation of Implementation Plans; Designation of Areas for Air Quality Planning Purposes; State of California; PM-10; Affirmation of Determination of Attainment for the San Joaquin Valley Nonattainment Area.” The proposed rule was initially published in the Federal Register on August 27, 2007. Written comments on the proposed rule were to be submitted to EPA on or before September 26, 2007 (a 30-day comment period). The EPA is extending the public comment period until October 26, 2007.

DATES: The public comment period for this proposed rule is extended until October 26, 2007.

ADDRESSES: Submit your comments, identified by docket number EPA-R09-OAR-2006-0583, by one of the following methods:

(1) Federal eRulemaking portal: http://www.regulations.gov.

(2) E-mail: lo.doris@epa.gov.

(3) Mail or deliver: Doris Lo (AIR-2), U.S. Environmental Protection Agency Region IX, 75 Hawthorne Street, San Francisco, CA 94105-3901.

Instructions: All comments will be included in the public docket without change and may be made available online at www.regulations.gov, including any personal information provided, unless the comment includes Confidential Business Information (CBI) or other information whose disclosure is restricted by statute. Information that you consider CBI or otherwise protected should be clearly identified as such and should not be submitted through the www.regulations.gov or e-mail. www.regulations.gov is an anonymous access system, and EPA will not know your identity or contact information unless you provide it in the body of your comment. If you send e-mail directly to EPA, your e-mail address will be automatically captured and included as part of the public comment. If EPA cannot read your comment due to technical difficulties and cannot contact you for clarification, EPA may not be able to consider your comment.

Docket: The index to the docket for this action is available electronically at www.regulations.gov and in hard copy at EPA Region IX, 75 Hawthorne Street, San Francisco, California. While all documents in the docket are listed in the index, some information may be publicly available only at the hard copy location (e.g., copyrighted material), and some may not be publicly available in either location (e.g., CBI). To inspect the hard copy materials, please schedule an appointment during normal business hours with the contact listed directly below.

FOR FURTHER INFORMATION CONTACT: Doris Lo, EPA Region IX, (415) 972-3959, lo.doris@epa.gov.

SUPPLEMENTARY INFORMATION: The proposed rule was signed by the Regional Administrator on August 15, 2007 and published in the Federal Register on August 27, 2007 (72 FR 49046). EPA has received a request for an additional 30 days to comment on the proposed rule and is granting that request. Therefore EPA is extending the comment period until October 26, 2007.

Dated: September 13, 2007.
Laura Yoshii,
Acting Regional Administrator, Region 9.

[FR Doc. E7-18586 Filed 9-19-07; 8:45 am]

BILLING CODE 6560-50-P